DEPARTMENT OF THE INTERIOR

Fish and Wildlife Service

[FWS-R4-R-2008-N0244; 40136-1265-0000-S3]

Archie Carr National Wildlife Refuge, Brevard and Indian River Counties, FL

AGENCY: Fish and Wildlife Service, Department of the Interior.

ACTION: Notice of availability: final comprehensive conservation plan and finding of no significant impact.

SUMMARY: We, the U.S. Fish and Wildlife Service (Service), announce the availability of our final comprehensive conservation plan (CCP) and finding of no significant impact (FONSI) for Archie Carr National Wildlife Refuge (NWR). In the CCP, we describe how we will manage Archie Carr NWR for the next 15 years.

ADDRESSES: A copy of the CCP may be obtained by writing to the refuge at: P.O. Box 2683, Titusville, FL 32781-2683. The CCP may also be accessed and downloaded from the Service's Internet Site: http://southeast.fws.gov/planning.

FOR FURTHER INFORMATION CONTACT: Cheri Ehrhardt; Telephone: 321/861-2368.

SUPPLEMENTARY INFORMATION:

Introduction

With this notice, we finalize the CCP process for Archie Carr NWR. We started this process through a notice of intent in the Federal Register on April 24, 2000 (65 FR 21784). For additional information regarding the process, see that notice. We released the draft comprehensive conservation plan and environmental assessment (Draft CCP/EA) to the public, announcing and requesting comments in a notice of availability in the Federal Register on June 26, 2008 (73 FR 36347).

Established in 1991, Archie Carr NWR is located approximately 15 miles northeast of Vero Beach, Florida, in Brevard and Indian River Counties. The 258-acre refuge includes a diversity of habitats consisting of beaches, dunes, coastal strand, maritime hammock, and mangroves. Refuge and partner beaches support the highest nesting concentrations of federally protected loggerhead and green sea turtles in the United States. Furthermore, several other state- and federal-listed species are found in the coastal and other barrier island habitats supported by the refuge. The refuge protects several historical and archaeological sites and, through working with the partners, provides a range of visitor services.

We announce our decision and the availability of the CCP and FONSI for Archie Carr NWR in accordance with National Environmental Policy Act (NEPA) [40 CFR 1506.6(b)] requirements. We completed a thorough analysis of impacts on the human environment, which we included in the Draft CCP/EA.

The CCP will guide us in managing and administering Archie Carr NWR for the next 15 years. Alternative B, as we described in the CCP, is the foundation for the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

We solicited comments on the Draft CCP/EA for Archie Carr NWR from June 26 to July 28, 2008. The comments were thoroughly evaluated, and changes were incorporated into the CCP, where warranted. Some of the changes include adding the impacts of climate change to the list of priority issues facing the refuge and updating the land cover maps with regard to the location of key non-native plant species.

Selected Alternative

After considering the comments received, we have selected Alternative B for implementation. Under this alternative, refuge management will focus on improving conditions for sea turtles and other threatened and endangered species, maintaining and restoring habitat, and improving biodiversity on the refuge, while focusing public use activities on partner properties within the larger Archie Carr NWR partnership.

Authority: This notice is published under the authority of the National Wildlife Refuge System Improvement Act of 1997, Public Law 105-57.

Dated: September 19, 2008.
Cynthia K. Dohner,
Acting Regional Director.

[FR Doc. E8-29082 Filed 12-8-08; 8:45 am]

BILLING CODE 4310-55-P